U.S.—CHINA ECONOMIC AND SECURITY REVIEW COMMISSION

Notice of Open Public Hearing

AGENCY: U.S.-China Economic and Security Review Commission.

ACTION: Notice of open public hearing—September 6-7, 2007, University of North Carolina—Chapel Hill, NC.

SUMMARY: Notice is hereby given of the following hearing of the U.S.-China Economic and Security Review Commission.

Name: Carolyn Bartholomew, Chairman of the U.S.-China Economic and Security Review Commission.

The Commission is mandated by Congress to investigate, assess, evaluate, and report to Congress annually on “the national security implications and impact of the bilateral trade and economic relationship between the United States and the People's Republic of China.” Pursuant to this mandate, the Commission will hold a public hearing in Chapel Hill, NC, at the University of North Carolina on September 6-7, 2007 on “North Carolina: China's Impact on the North Carolina Economy: Winners and Losers.”

Background

This event is the seventh in a series of public hearings the Commission will hold during its 2007 report cycle to collect input from leading experts in academia, business, industry, government and from the public on the impact of the economic and national security implications of the U.S. bilateral trade and economic relationship with China. The September 6-7 hearing is being conducted to examine the impacts of Chinese exports on North Carolina's traditional clothing, textile, and furniture industries; the effectiveness of North Carolina's proactive measures to mitigate and adapt to Chinese competition; and to consider feedback and opinions from the people of North Carolina.

The hearing, entitled “North Carolina: China's Impact on the North Carolina Economy: Winners and Losers,” will be co-chaired by Commissioners Jeffrey Fiedler and Dennis Shea.

Open Microphone Session for Public Comment: The hearing on Friday, September 7, 2007, will conclude with a discussion on the community impact of economic dislocations with an “open” microphone session for interested members of the public to voice their views. Registration for the open microphone session begins at 8 a.m. on Friday, September 7th with sign up available in the hearing room. Comments will be limited to 5 minutes for each participant.

Information on this hearing, including a detailed hearing agenda and information about panelists, will be made available on the Commission's Web site prior to the hearing date. Detailed information about the Commission, the texts of its annual reports and hearing records, and the products of research it has commissioned can be found on the Commission's Web site at www.uscc.gov.

Any interested party may file a written statement by September 6, 2007, by mailing to the contact below.

Date and Time: Thursday, September 6, 2007, 8:30 a.m. to 5 p.m. and Friday, September 7, 2007, 9 a.m. to 12 p.m. A detailed agenda for the hearing will be posted to the Commission's Web site at www.uscc.gov in the near future.

ADDRESSES: The hearings will be held in The Kenan Conference Center, Room 204 at the University of North Carolina—Chapel Hill campus on Skipper Bowles Road, Chapel Hill, NC 27599-1550. Public seating is limited to approximately 150 people on a first come, first served basis. Advance reservations are not required.

FOR FURTHER INFORMATION CONTACT: Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 20, 2007.
Kathleen J. Michels,
Associate Director, U.S.-China Economic and Security Review Commission.

[FR Doc. 07-4139 Filed 8-23-07; 8:45 am]

BILLING CODE 1137-00-M